DEPARTMENT OF ENERGY

Federal Energy Regulatory Commission

[Docket No. ER25-1890-000]

PJM Interconnection, L.L.C.; Notice Granting Motion To Hold Proceeding in Abeyance

On January 13, 2026, Sugar Maple Wind, LLC and Twin Ridges LLC filed a joint motion in the above-captioned proceeding requesting that the Commission hold the proceeding in abeyance for a period of three months from the date of an order granting their motion. No comments were filed.

Upon consideration, notice is hereby given that the joint motion is granted. As such, the proceeding will be held in abeyance for three months, up to and including April 21, 2026, as requested.

Dated: January 21, 2026.
Debbie-Anne A. Reese,
Secretary.

[FR Doc. 2026-01474 Filed 1-26-26; 8:45 am]

BILLING CODE 6717-01-P